FEDERAL TRADE COMMISSION

Granting of Request for Early Termination of the Waiting Period Under the Premerger Notification Rules

Correction

In notice document 01-4759, beginning on page 12522, in the issue of Tuesday, February 27, 2001, make the following correction:

On page 12524, in the table, in the heading, TRANSACTIONS GRANTED EARLY TERMINATION “02/22/2001” should read “02/02/2001.”

[FR Doc. C1-4759 Filed 3-12-01; 8:45 am]

BILLING CODE 1505-01-D